DEPARTMENT OF COMMERCE

Foreign-Trade Zones Board

[S-36-2025]

Approval of Subzone Status; SNRA Commodities, Inc.; Fabens, Texas

On February 18, 2025, the Executive Secretary of the Foreign-Trade Zones (FTZ) Board docketed an application submitted by the City of El Paso, grantee of FTZ 68, requesting subzone status subject to the existing activation limit of FTZ 68, on behalf of SNRA Commodities, Inc., in Fabens, Texas.

The application was processed in accordance with the FTZ Act and Regulations, including notice in the Federal Register inviting public comment (90 FR 10047, February 21, 2025). The FTZ staff examiner reviewed the application and determined that it meets the criteria for approval. Pursuant to the authority delegated to the FTZ Board Executive Secretary (15 CFR 400.36(f)), the application to establish Subzone 68B was approved on May 7, 2025, subject to the FTZ Act and the Board's regulations, including section 400.13, and further subject to FTZ 68's 2,000-acre activation limit.

Dated: May 7, 2025.
Camille R. Evans,
Acting Executive Secretary.

[FR Doc. 2025-08342 Filed 5-12-25; 8:45 am]

BILLING CODE 3510-DS-P